DEPARTMENT OF VETERANS AFFAIRS

[OMB Control No. 2900-New (HEC)]

Proposed Information Collection (Health Eligibility Center (HEC) Correspondence Satisfaction Letter and Customer Modality Survey): Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on the information needed to evaluate and improve patient satisfaction program.

DATES: Written comments and recommendations on the proposed collection of information should be received on or before September 22, 2009.

ADDRESSES: Submit written comments on the collection of information through http://www.Regulations.gov; or to Mary Stout, Veterans Health Administration (193E1), Department of Veterans Affairs, 810 Vermont Avenue, NW., Washington, DC 20420 or e-mail: mary.stout@va.gov. Please refer to “OMB Control No. 2900-New (HEC)” in any correspondence. During the comment period, comments may be viewed online through the Federal Docket Management System (FDMS) at http://www.Regulations.gov.

FOR FURTHER INFORMATION CONTACT: Mary Stout (202) 461-5867 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. Health Eligibility Center (HEC) Correspondence Satisfaction Letter, FL 10-491.

b. Customer Modality Satisfaction Survey, VA Form 10-0151.

OMB Control Number: 2900-New (HEC).

Type of Review: New collection.

Abstract: The HEC goal is to respond to Veterans correspondence, addressing their concerns in a concise and understandable manner. The correspondence letter will allow Veterans an opportunity to provide anonymous feedback on how well the HEC addressed their concerns. HEC will use Veterans feedback to improve the correspondence process. The Customer Modality Survey will be used to focus on how VA employees assess the needs of Veterans and outline internal processes to improve services prior to Veterans receiving care such as pre-registration support and claim processing.

Affected Public: Individuals or households.

Estimated Annual Burden:

a. VA FL 10-0151—11,551 hours.

b. VA Form 10-491—83,677 hours.

Estimated Average Burden Per Respondent:

a. VA FL 10-0151—4.2 minutes.

b. VA Form 10-491—23 minutes.

Frequency of Response:

a. VA FL 10-0151—1.53.

b. VA Form 10-491—1.9.

Estimated Number of Respondents:

a. VA FL 10-0151—107,851.

b. VA Form 10-491—114,889.

Total Annual Responses:

a. VA FL 10-0151—165,012.

b. VA Form 10-491—218,289.

Dated: July 21, 2009.
By direction of the Secretary.
Denise McLamb,
Program Analyst, Enterprise Records Service.

[FR Doc. E9-17661 Filed 7-23-09; 8:45 am]

BILLING CODE 8320-01-P